DEPARTMENT OF COMMERCE

Foreign-Trade Zones Board

[S-53-2014]

Approval of Subzone Status, ASML US, Inc., Wilton and Newtown, Connecticut

On May 13, 2014, the Executive Secretary of the Foreign-Trade Zones (FTZ) Board docketed an application submitted by the Bridgeport Port Authority, grantee of FTZ 76, requesting subzone status subject to the existing activation limit of FTZ 76 on behalf of ASML US, Inc. in Wilton and Newtown, Connecticut.

The application was processed in accordance with the FTZ Act and Regulations, including notice in the Federal Register inviting public comment (79 FR 29166-29167, 05-21-2014). The FTZ staff examiner reviewed the application and determined that it meets the criteria for approval. Pursuant to the authority delegated to the FTZ Board Executive Secretary (15 CFR Sec. 400.36(f)), the application to establish Subzone 76A is approved, subject to the FTZ Act and the Board's regulations, including Section 400.13, and further subject to FTZ 76's 476-acre activation limit.

Dated: July 24, 2014.
Andrew McGilvray,
Executive Secretary.

[FR Doc. 2014-18073 Filed 7-30-14; 8:45 am]

BILLING CODE 3510-DS-P